DEPARTMENT OF ENERGY

Federal Energy Regulatory Commission

Combined Notice of Filings #1

Take notice that the Commission received the following exempt wholesale generator filings:

Docket Numbers: EG19-1-000.

Applicants: King Mountain Upton Wind, LLC.

Description: Notice of Self-Certification of Exempt Wholesale Generator Status of King Mountain Upton Wind, LLC.

Filed Date: 10/1/18.

Accession Number: 20181001-5370.

Comments Due: 5 p.m. ET 10/22/18.

Take notice that the Commission received the following electric rate filings:

Docket Numbers: ER15-936-004; ER13-342-014; ER13-343-010; ER15-960-004; ER16-700-003; ER16-701-003; ER17-1531-002; ER10-1514-004.

Applicants: Benson Power, LLC, CPV Biomass Holdings, LLC, CPV Fairview, LLC, CPV Keenan II Renewable Energy Company, LLC, CPV Maryland, LLC, CPV Shore, LLC, CPV Towantic, LLC, CPV Valley, LLC.

Description: Notice of Change in Status of Benson Power, LLC, et. al.

Filed Date: 10/1/18.

Accession Number: 20181001-5394.

Comments Due: 5 p.m. ET 10/22/18.

Docket Numbers: ER19-9-001.

Applicants: Mankato Energy Center II, LLC.

Description: Tariff Amendment: Amendment to MBR Authority Application and Initial Baseline Tariff Filing to be effective 12/1/2018.

Filed Date: 10/1/18.

Accession Number: 20181001-5298.

Comments Due: 5 p.m. ET 10/22/18.

Docket Numbers: ER19-15-000.

Applicants: Wolverine Power Supply Cooperative, Inc.

Description: § 205(d) Rate Filing: New Executed Agreements between Wolverine and MPPA to be effective 9/17/2018.

Filed Date: 10/1/18.

Accession Number: 20181001-5278.

Comments Due: 5 p.m. ET 10/22/18.

Docket Numbers: ER19-16-000.

Applicants: NorthWestern Corporation.

Description: Tariff Cancellation: Cancellation of NWE SD OATT under Tariff ID 28 to be effective 10/2/2018.

Filed Date: 10/1/18.

Accession Number: 20181001-5286.

Comments Due: 5 p.m. ET 10/22/18.

Docket Numbers: ER19-17-000.

Applicants: Southwest Power Pool, Inc.

Description: § 205(d) Rate Filing: 2041R8 Kansas City Board of Public Utilities PTP Agreement to be effective 9/1/2018.

Filed Date: 10/1/18.

Accession Number: 20181001-5288.

Comments Due: 5 p.m. ET 10/22/18.

Docket Numbers: ER19-18-000.

Applicants: Atlantic City Electric Company, PJM Interconnection, L.L.C.

Description: § 205(d) Rate Filing: Atlantic City Electric submits revisions to OATT, Att. H-1A re: FAS 109 Recovery to be effective 10/1/2018.

Filed Date: 10/1/18.

Accession Number: 20181001-5300.

Comments Due: 5 p.m. ET 10/22/18.

Docket Numbers: ER19-19-000.

Applicants: PJM Interconnection, L.L.C.

Description: § 205(d) Rate Filing: Financial Transmission Rights Default Disposition Filing to be effective 12/1/2018.

Filed Date: 10/1/18.

Accession Number: 20181001-5309.

Comments Due: 5 p.m. ET 10/22/18.

Docket Numbers: ER19-20-000.

Applicants: Midcontinent Independent System Operator, Inc.

Description: § 205(d) Rate Filing: 2018-10-01_SA 3168 MPPA-MPPA GIA (J540) to be effective 9/17/2018.

Filed Date: 10/1/18.

Accession Number: 20181001-5310.

Comments Due: 5 p.m. ET 10/22/18.

Docket Numbers: ER19-21-000.

Applicants: Alcoa Power Generating Inc.

Description: § 205(d) Rate Filing: Third Supplemental Transmission Services Agreement to be effective 10/2/2018.

Filed Date: 10/1/18.

Accession Number: 20181001-5313.

Comments Due: 5 p.m. ET 10/22/18.

Docket Numbers: ER19-22-000.

Applicants: PJM Interconnection, L.L.C.

Description: Tariff Cancellation: Notice of Cancellation of WMPA SA No. 4941; Queue No. AC2-162 to be effective 11/7/2018.

Filed Date: 10/1/18.

Accession Number: 20181001-5325.

Comments Due: 5 p.m. ET 10/22/18.

Docket Numbers: ER19-23-000.

Applicants: PJM Interconnection, L.L.C.

Description: § 205(d) Rate Filing: Default Allocation Assessment Clarifying Revisions to be effective 12/1/2018.

Filed Date: 10/1/18.

Accession Number: 20181001-5334.

Comments Due: 5 p.m. ET 10/22/18.

Docket Numbers: ER19-24-000.

Applicants: PJM Interconnection, L.L.C.

Description: § 205(d) Rate Filing: Financial Transmission Rights ? Bilateral Transaction to be effective 12/1/2018.

Filed Date: 10/1/18.

Accession Number: 20181001-5343.

Comments Due: 5 p.m. ET 10/22/18.

Docket Numbers: ER19-25-000.

Applicants: PJM Interconnection, L.L.C.

Description: § 205(d) Rate Filing: FTRs ? Conditional Extension of Time—Limited Revisions to Liquidation Provision to be effective 12/1/2018.

Filed Date: 10/1/18.

Accession Number: 20181001-5346.

Comments Due: 5 p.m. ET 10/22/18.

Docket Numbers: ER19-27-000.

Applicants: Midcontinent Independent System Operator, Inc.

Description: Request for Waiver of Midcontinent Independent System Operator, Inc.

Filed Date: 10/1/18.

Accession Number: 20181001-5372.

Comments Due: 5 p.m. ET 10/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2018.
Nathaniel J. Davis, Sr.,
Deputy Secretary.

[FR Doc. 2018-21931 Filed 10-9-18; 8:45 am]

BILLING CODE 6717-01-P